DEPARTMENT OF ENERGY

Federal Energy Regulatory Commission

[Project No. 13423-000]

Willwood Irrigation District; Notice of Preliminary Permit Application Accepted for Filing and Soliciting Comments, Motions To Intervene, and Competing Applications

April 24, 2009.

On April 6, 2009, Willwood Irrigation District filed an application, pursuant to section 4(f) of the Federal Power Act, proposing to study the feasibility of the Willwood Dam Hydroelectric Project. The project would be located on Federal lands in Park County in Wyoming, approximately nine miles southwest of Powell, Wyoming and would utilize the U.S. Bureau of Reclamation's Willwood Diversion Dam.

The proposed project using the U.S. Bureau of Reclamation's Willwood Diversion Dam would consist of: (1) A short proposed penstock from the existing seven-foot-diameter opening in the dam to the proposed powerhouse; (2) a proposed powerhouse at the base of the existing dam containing one Kaplan turbine, a generator, and control systems with a total installed capacity of 2,000 kilowatts, (3) a proposed 34.5-kV, two-mile-long transmission line. The project would have an annual generation of approximately 7.8 gigawatt-hours that would be sold to a local utility.

Applicant Contact: Mr. Tom Walker, Willwood Irrigation District, 1306 Road 9, Powell, Wyoming 82435; phone: (307) 754-3831. FERC Contact: Gina Krump, (202) 502-6704.

Deadline for filing comments, motions to intervene, competing applications, or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13423-000) in the docket number field to access the document. For assistance, call toll-free 1-866-208-3372.

Kimberly D. Bose,
Secretary.

[FR Doc. E9-10106 Filed 5-1-09; 8:45 am]

BILLING CODE 6717-01-P